ENVIRONMENTAL PROTECTION AGENCY

[FRL-9364-01-R6]

Clean Air Act Operating Permit Program; Petition for Objection to State Operating Permit for Premcor Refining Group Inc., Valero Port Arthur Refinery, Jefferson County, Texas

AGENCY: Environmental Protection Agency (EPA).

ACTION: Notice of final order on petition for objection to Clean Air Act Title V operating permit.

SUMMARY: The Environmental Protection Agency (EPA) Administrator signed an Order dated November 30, 2021, granting in part and denying in part a Petition dated February 20, 2018 from the Environmental Integrity Project, Sierra Club, and the Port Arthur Community Action Network (the Petitioners). The Petition requested that the EPA object to a Clean Air Act (CAA) title V operating permit issued by the Texas Commission on Environmental Quality (TCEQ) to Premcor Refining Group Inc. (Premcor) for its Valero Port Arthur Refinery located in Jefferson County, Texas.

ADDRESSES: The EPA requests that you contact the individual listed in the FOR FURTHER INFORMATION CONTACT section to view copies of the final Order, the Petition, and other supporting information. Out of an abundance of caution for members of the public and our staff, the EPA Region 6 office is currently closed to the public to reduce the risk of transmitting COVID-19. Please call or email the contact listed below if you need alternative access to the final Order and Petition, which are available electronically at: https://www.epa.gov/title-v-operating-permits/title-v-petition-database.

FOR FURTHER INFORMATION CONTACT: Jonathan Ehrhart, EPA Region 6 Office, Air Permits Section, (214) 665-2295, ehrhart.jonathan@epa.gov.

SUPPLEMENTARY INFORMATION: The CAA affords EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issue arose after this period.

The EPA received the Petition from the Environmental Integrity Project, Sierra Club, and the Port Arthur Community Action Network dated February 20, 2018, requesting that the EPA object to the issuance of operating permit no. O1498, issued by TCEQ to the Premcor Valero Port Arthur Refinery in Jefferson County, Texas. The Petition claims the proposed permit fails to incorporate and assure compliance with Permit by Rule (“PBR”) requirements, including requirements in Premcor's certified PBR registrations, and fails to include monitoring, testing, and recordkeeping provisions that assure compliance with applicable requirements in Premcor's New Source Review (NSR) permits.

On November 30, 2021, the EPA Administrator issued an Order granting in part and denying in part the Petition. The Order explains the basis for EPA's decision.

Dated: December 16, 2021.
David Garcia,
Director, Air and Radiation Division, Region 6.

[FR Doc. 2021-27573 Filed 12-20-21; 8:45 am]

BILLING CODE 6560-50-P